LEGAL SERVICES CORPORATION

Sunshine Act Meetings

TIME AND DATE: The Finance Committee of the Legal Services Corporation Board of Directors will meet virtually on June 27, 2023. The meeting will commence at 11:00 a.m. EDT and will continue until the conclusion of the Committee's agenda.

PLACE:

Public Notice of Virtual Meeting: LSC will conduct the June 27, 2023 meeting via Zoom.

Public Observation: Unless otherwise noted herein, the Finance Committee meeting will be open to public observation via Zoom. Members of the public who wish to participate remotely in the public proceedings may do so by following the directions provided below.

Directions for Joining

June 27, 2023

To join the Zoom meeting by computer, please use this link.

• https://lsc-gov.zoom.us/j/82139132833?pwd=dEVSK29vWVBWWGFhZkZEL1Rsd296dz09&from=addon

○ Meeting ID: 821 3913 2833

○ Passcode: 062723

• To join the Zoom meeting with one tap from your mobile phone, please click dial:

• +13017158592,,82139132833# US (Washington, DC)

• +13126266799,,82139132833# US (Chicago)

• To join the Zoom meeting by telephone, please dial one of the following numbers:

○ +1 301 715 8592 US (Washington, DC)

○ +1 646 876 9923 US (New York)

○ +1 312 626 6799 US (Chicago)

○ +1 346 248 7799 US (Houston)

○ +1 408 638 0968 US (San Jose)

○ +1 669 900 6833 US (San Jose)

○ +1 253 215 8782 US (Tacoma)

○ Meeting ID: 821 3913 2833

○ Passcode: 062723

Once connected to Zoom, please immediately mute your computer or telephone. Members of the public are asked to keep their computers or telephones muted to eliminate background noise. To avoid disrupting the meetings, please refrain from placing the call on hold if doing so will trigger recorded music or other sound.

From time to time, the Finance Committee Chair may solicit comments from the public. To participate in the meeting during public comment, use the `raise your hand' or `chat' functions in Zoom and wait to be recognized by the Chair before stating your questions and/or comments.

STATUS: Open.

MATTERS TO BE CONSIDERED:

1. Approval of Meeting Agenda

2. Discussion with LSC Leadership Regarding Recommendations for the Organization's Fiscal Year 2025 Budget Request

3. Discussion with Leadership from the Office of Inspector General (OIG) for the Legal Services Corporation Regarding OIG's Fiscal Year 2025 Budget Request

4. Public Comment

5. Consider and Act on Other Business

6. Consider and Act on Adjournment of Meeting

CONTACT PERSON FOR MORE INFORMATION: Cheryl DuHart, Administrative Coordinator, at (202) 295-1621. Questions may also be sent by electronic mail to duhartc@lsc.gov.

Non-Confidential Meeting Materials: Non-confidential meeting materials will be made available in electronic format at least 24 hours in advance of the meeting on the LSC website, at https://www.lsc.gov/about-lsc/board-meeting-materials.

(Authority: 5 U.S.C. 552b.)

Dated: May 31, 2023.
Stefanie Davis,
Senior Associate General Counsel for Regulations, Legal Services Corporation.

[FR Doc. 2023-11961 Filed 6-1-23; 11:15 am]

BILLING CODE 7050-01-P